FARM CREDIT ADMINISTRATION

Farm Credit Administration Board; Regular Meeting

AGENCY: Farm Credit Administration.

SUMMARY: Notice is hereby given, pursuant to the Government in the Sunshine Act (5 U.S.C. 552b(e)(3)), of the regular meeting of the Farm Credit Administration Board (Board).

DATES AND TIME: The regular meeting of the Board will be held at the offices of the Farm Credit Administration in McLean, Virginia, on October 9, 2008, from 9 a.m. until such time as the Board concludes its business.

FOR FURTHER INFORMATION CONTACT: Roland E. Smith, Secretary to the Farm Credit Administration Board, (703) 883-4009, TTY (703) 883-4056.

ADDRESSES: Farm Credit Administration, 1501 Farm Credit Drive, McLean, Virginia 22102-5090.

SUPPLEMENTARY INFORMATION: Parts of this meeting of the Board will be open to the public (limited space available), and parts will be closed to the public. In order to increase the accessibility to Board meetings, persons requiring assistance should make arrangements in advance. The matters to be considered at the meeting are:

Open Session

A. Approval of Minutes

• September 11, 2008.

B. New Business—Regulation

• Disclosure and Accounting Requirements—Proposed Rule—12 CFR Parts 619, 620, and 621.

C. Reports

• OE Quarterly Report and Funding the Farm Credit System (FCS):

○ Financial Condition of FCS.

○ Funding the FCS.

Closed Session *

* Session Closed-Exempt pursuant to 5 U.S.C. 552b(c)(8) and (9).

• Supervisory and Oversight Activities of FCS Institutions.

Dated: September 26, 2008.
Roland E. Smith,
Secretary, Farm Credit Administration Board.

[FR Doc. E8-23077 Filed 9-26-08; 4:15 pm]

BILLING CODE 6705-01-P